ENVIRONMENTAL PROTECTION AGENCY

40 CFR Part 75

Continuous Emission Monitoring

CFR Correction

In Title 40 of the Code of Federal Regulations, Parts 72 to 80, revised as of July 1, 2015, on page 365, in Appendix A to Part 75, the first heading “2.1.3. CO2 and O2 Monitors” and the text following it are removed.

[FR Doc. 2016-04437 Filed 2-29-16; 8:45 am]

BILLING CODE 1505-01-D